DEPARTMENT OF ENERGY

Federal Energy Regulatory Commission

[Docket Nos. RM01-10-006, EL01-118-005, RM03-10-002]

Standards of Conduct for Transmission Providers; Investigation of Terms and Conditions of Public Utility Market-Based Rate Authorizations; Amendments to Blanket Sales Certificate; Supplemental Notice of Technical Conference and Workshop

April 26, 2005.

As previously announced on April 5, 2005, the Federal Energy Regulatory Commission (Commission) will hold a technical conference and workshop on Standards of Conduct for Transmission Providers and Market Behavior Rules on May 6, 2005, at the Millennium Knickerbocker Hotel in Chicago, Illinois. The meeting will begin at 9:30 a.m. (CST) (a time change from that announced in the April 5 Notice) and conclude at approximately 4 p.m.

The purpose of the conference and workshop is to discuss the Standards of Conduct for Transmission Providers under Order No. 2004 ¹ and the Market Behavior Rules.² Attached is a tentative schedule and agenda with invited speakers.

¹ Standards of Conduct for Transmission Providers, Order No. 2004, FERC Stats. & Regs., Regulations Preambles ¶ 31,155 (2003), order on reh'g, Order No. 2004-A, III FERC Stats. & Regs. ¶ 31,161 (2004), 107 FERC ¶ 61,032 (2004), order on reh'g, Order No. 2004-B, III FERC Stats. & Regs. ¶ 31,166 (2004), 108 FERC ¶ 61,118 (2004), order on reh'g, Order No. 2004-C, 109 FERC ¶ 61,325 (2004), order on reh'g, Order No. 2004-D, 110 FERC ¶ 61,320 (2005).

² Order Amending Market-Based Rate Tariffs and Authorizations, 105 FERC ¶ 61,218 (2003), reh'g denied, 107 FERC ¶ 61,175 (2004); Order No. 644, Amendment to Blanket Sales Certificates, FERC Stats. & Regs. ¶ 31,153 (2003), reh'g denied, 107 FERC ¶ 61,174 (2004).

Hotel rooms at the Millennium Knickerbocker Hotel, 163 East Walton Place, Chicago, Illinois, can be reserved by calling 1 (800) 621-8140 or 1 (312) 751-8100.

There is no registration fee to attend this conference. However, we request that those planning to attend register online on the Commission's Web site at http://www.ferc.gov/whats-new/registration/comp-05-06-form.asp.

Capitol Connection offers the opportunity for remote listening of the conference. It is available for a fee, live over the Internet, by phone or via satellite. Persons interested in receiving the broadcast, or who need information on making arrangements, should contact David Reininger or Julia Morelli at Capitol Connection (703-993-3100) as soon as possible or visit the Capitol Connection Web site at http://www.capitolconnection.org and click on “FERC.”

Audio tapes of the meeting will be available from VISCOM (703-715-7999).

Questions about the conference and workshop should be directed as follows:

Regarding Standards of Conduct: Demetra Anas, Office of Market Oversight and Investigations, Federal Energy Regulatory Commission, 888 First Street, NE., Washington, DC 20426, 202-502-8178, Demetra.Anas@ferc.gov.

Regarding Market Behavior Rules: Ted Gerarden, Office of Market Oversight and Investigations, Federal Energy Regulatory Commission, 888 First Street, NE., Washington, DC 20426, (202) 502-6187, Ted.Gerarden@ferc.gov.

Magalie R. Salas,
Secretary.

[FR Doc. E5-2103 Filed 5-2-05; 8:45 am]

BILLING CODE 6717-01-P